FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 3748F.

Name: Aero Expedited, Inc. dba Aero Expediting, Inc.

Address: 29101 Airport Drive, Romulus, MI 48174.

Date Revoked: May 29, 2003.

Reason: Failed to a maintain valid bond.

License Number: 3307N.

Name: American Freight International, Inc.

Address: 8169 NW 67th Street, Miami, FL 33166.

Date Revoked: May 16, 2003.

Reason: Surrendered license voluntarily.

License Number: 3723NF.

Name: Birkart of America Inc. dba Birkart Fairs & Events c/o Thiel Logistics.

Address: 3200 NW 112 Avenue, Miami, FL 33172.

Date Revoked: April, 30, 2003.

Reason: Failed to maintain valid bonds.

License Number: 2363F.

Name: Cargoza Forwarding Corporation.

Address: P.O. Box 661275, Miami Springs, FL 33266.

Date Revoked: May 17, 2003.

Reason: Failed to maintain a valid bond.

License Number: 18051F.

Name: Dominicana Air & Ocean Freight Corp.

Address: 1332 NW 36th Street, Jamaica, NY 33142.

Date Revoked: May 22, 2003.

Reason: Failed to maintain a valid bond.

License Number: 7653N.

Name: Erika Charterers Inc.

Address: 3200 South Andrews Avenue, Suite 103, Ft. Lauderdale, FL 33316.

Date Revoked: May 29, 2003.

Reason: Failed to maintain a valid bond.

License Number: 17912N.

Name: GPS Logistics, Inc. dba GPS Logistics Group.

Address: 175-18 147th Avenue, Jamaica, NY 11434.

Date Revoked: May 20, 2003.

Reason: Failed to maintain a valid bond.

License Number: 7013N.

Name: Midas Maritime, Inc.

Address: 950 Linden Avenue, S. San Francisco, CA 94080.

Date Revoked: May 29, 2003.

Reason: Failed to maintain a valid bond.

License Number: 11101N.

Name: Taiun Company (U.S.A.) Inc.

Address: 725 North Nash Street, El Segundo, CA 90245.

Date Revoked: May 29, 2003.

Reason: Failed to maintain a valid bond.

License Number: 14222N.

Name: Trademar Consolidators Corp.

Address: 8454 NW 70th Street, Miami, FL 33166.

Date Revoked: May 24, 2003.

Reason: Failed to maintain a valid bond.

License Number: 4515NF.

Name: Transports P. Fatton Inc.

Address: 145 Hook Creek Blvd., Valley Stream, NY 11581.

Date Revoked: May 29, 2003.

Reason: Failed to maintain valid bonds.

Sandra L. Kusumoto,
Director, Bureau of Consumer Complaints and Licensing.

[FR Doc. 03-14807 Filed 6-10-03; 8:45 am]

BILLING CODE 6730-01-P